NATIONAL SCIENCE FOUNDATION

Notice of Permit Applications Received Under the Antarctic Conservation Act

AGENCY: National Science Foundation.

ACTION: Notice of permit applications received under the Antarctic Conservation Act.

SUMMARY: The National Science Foundation (NSF) is required to publish a notice of permit applications received to conduct activities regulated under the Antarctic Conservation Act of 1978. NSF has published regulations under the Antarctic Conservation Act at title 45 part 670 of the Code of Federal Regulations. This is the required notice of permit applications received.

DATES: Interested parties are invited to submit written data, comments, or views with respect to this permit application by October 23, 2015. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Li Ling Hamady, ACA Permit Officer, at the above address or ACApermits@nsf.gov or (703) 292-7149.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Application Details:

Permit Application: 2016-009

1. Applicant Tehnuka Ilanko. Department of Earth and Planetary Sciences. University of New Mexico, Albuquerque NM.

Activity for Which Permit Is Requested

ASPA entry; The applicant desires to access Tramway Ridge, on Mt. Erebus, Ross Island, which is protected by ASPA 175 High Altitude Geothermal Sites of the Ross Sea Region. Applicant wishes to conduct gas sampling of gases emitted from vents in order to characterize the subsurface conditions and gas emissions of Tramway Ridge to better understand processes behind flank degassing and possible interactions between magmatic and hydrothermal systems. Samples will be collected in glass bottles via a sterilized hollow stainless steel rod inserted into a degassing vent, with a pump used to extract the gases into an accumulation chamber.

Location

ASPA 175, High Altitude Geothermal Sites of the Ross Sea Region: Tramway Ridge, Mt. Erebus, Ross Island.

Dates

November 1, 2015 to January 31, 2017.

Nadene G. Kennedy,
Polar Coordination Specialist, Division of Polar Programs.

[FR Doc. 2015-24176 Filed 9-22-15; 8:45 am]

BILLING CODE 7555-01-P